DEPARTMENT OF HEALTH AND HUMAN SERVICES

National Institutes of Health

Prospective Grant of an Exclusive Patent License: Use and Development of RAB13 and NET1 Targeting Antisense Oligonucleotides in the Treatment of Cancer

AGENCY: National Institutes of Health, HHS.

ACTION: Notice.

SUMMARY: The National Cancer Institute, an institute of the National Institutes of Health, Department of Health and Human Services, is contemplating the grant of an Exclusive Patent License to practice the inventions embodied in the U.S. Patents and Patent Applications listed in the Supplementary Information section of this notice to Drug Development and Filing Consulting, LLC located in Maryland, USA.

DATES: Only written comments and/or applications for a license which are received by the National Cancer Institute's Technology Transfer Center on or before December 21, 2022 will be considered.

ADDRESSES: Requests for copies of the patent application, inquiries, and comments relating to the contemplated an Exclusive Patent License should be directed to: Suna Gulay French, Technology Transfer Manager, Telephone: (240)-276-7424; Email: suna.gulay@nih.gov.

SUPPLEMENTARY INFORMATION:

Intellectual Property

1. United States Provisional Patent Application No. 62/966,204, filed January 27, 2020 and entitled “RAB13 and NET1 Antisense Oligonucleotides to Treat Metastatic Cancer” [HHS Ref. No. E-041-2020-0-US-01];

2. PCT Patent Application No. PCT/US2021/015053, filed January 26, 2021 and entitled “RAB13 and NET1 Antisense Oligonucleotides to Treat Metastatic Cancer” [HHS Ref. No. E-041-2020-0-PCT-02]; and

3. United States Patent Application No. 17/792,507, filed July 13, 2022 and entitled “Antisense Oligos that Block Cancer Cell Migration and Invasion” [HHS Ref. No. E-041-2020-0-US-03].

The patent rights in these inventions have been assigned and/or exclusively licensed to the government of the United States of America.

The prospective exclusive license territory may be the United States only and the field of use may be limited to: “Use and development of RAB13 and NET1 targeting antisense oligonucleotides in treatment of breast cancer, ovarian cancer, cervical cancer and head and neck cancer in humans.”

This technology discloses RAB13 and NET1 targeting antisense oligonucleotides (ASOs) for use in targeted cancer therapy. These ASOs bind to the 3′-untranslated regions of RAB13 and NET1 mRNAs and prevent the localization of these mRNAs to cellular protrusions involved in motility. These ASOs reduce cell motility and migration in vitro. Due to this reduction in cell motility and migration, these ASOs are expected to have uses in the treatment of metastatic cancers.

This notice is made in accordance with 35 U.S.C. 209 and 37 CFR part 404. The prospective exclusive license will be royalty bearing, and the prospective exclusive license may be granted unless within fifteen (15) days from the date of this published notice, the National Cancer Institute receives written evidence and argument that establishes that the grant of the license would not be consistent with the requirements of 35 U.S.C. 209 and 37 CFR part 404.

In response to this Notice, the public may file comments or objections. Comments and objections, other than those in the form of a license application, will not be treated confidentially, and may be made publicly available.

License applications submitted in response to this Notice will be presumed to contain business confidential information and any release of information in these license applications will be made only as required and upon a request under the Freedom of Information Act, 5 U.S.C. 552.

Dated: November 30, 2022.
Richard U. Rodriguez,
Associate Director, Technology Transfer Center, National Cancer Institute.

[FR Doc. 2022-26430 Filed 12-5-22; 8:45 am]

BILLING CODE 4140-01-P